DEPARTMENT OF COMMERCE

International Trade Administration

[A-570-905]

Certain Polyester Staple Fiber From the People's Republic of China: Final Results of Antidumping Duty Administrative Review; 2010-2011

AGENCY: Import Administration, International Trade Administration, Department of Commerce.

SUMMARY: On July 6, 2012, the Department of Commerce (“Department”) published in the Federal Register the Preliminary Results of the fourth administrative review of the antidumping duty order on certain polyester staple fiber (“PSF”) from the People's Republic of China (“PRC”).¹ We gave interested parties an opportunity to comment on the Preliminary Results. Based upon our analysis of the comments and information received, we made changes to the margin calculations for the final results. Further, we determine that Huvis Sichuan Co., Ltd. (“Huvis Sichuan”) had no reviewable entries of subject merchandise during the period of review (“POR”).

¹ See Certain Polyester Staple Fiber From the People's Republic of China: Preliminary Results of the Antidumping Duty Administrative Review, 77 FR 39990 (July 6, 2012) (“Preliminary Results”).

DATES: Effective January 11, 2013.

FOR FURTHER INFORMATION CONTACT: Steven Hampton or Susan Pulongbarit, AD/CVD Operations, Office 9, Import Administration, International Trade Administration, U.S. Department of Commerce, 14th Street and Constitution Avenue NW., Washington, DC 20230; telephone: (202) 482-0116 and (202) 482-4031 respectively.

SUPPLEMENTARY INFORMATION:

Background

On July 6, 2012, the Department published the Preliminary Results. Between August 8, 2012, and August 20, 2012, interested parties submitted surrogate value information and rebuttal surrogate value comments. Interested parties were further provided an opportunity to comment on the Preliminary Results. On September 21, 2012, the Department received a case brief from Zhaoqing Tifo New Fiber Co., Ltd. On September 28, 2012, the Department received a rebuttal brief from DAK Americas LLC.

Analysis of Comments Received

All issues raised in the case and rebuttal briefs by parties to this review are addressed in the memorandum entitled, “Certain Polyester Staple Fiber from the People's Republic of China: Issues and Decision Memorandum for the Final Results of the 2010-2011 Administrative Review” (“I&D Memo”), which is dated concurrently with and adopted by this notice. A list of the issues which parties raised and to which we respond in the I&D Memo is attached to this notice as Appendix I. The I&D Memo is a public document and is on file electronically via Import Administration's Antidumping and Countervailing Duty Centralized Electronic Service System (“IA ACCESS”). IA ACCESS is available to registered users at http://iaaccess.trade.gov, and is available to all parties in the Central Records Unit, room 7046 of the main Department of Commerce building. In addition, a complete version of the I&D Memo can be accessed directly on the Internet at http://www.trade.gov/ia/. The signed I&D Memo and the electronic versions of the I&D Memo are identical in content.

Changes Since the Preliminary Results

The Department has made changes to the preliminary margin calculation. Specifically, we:

• Used the 2010 financial statement of P.T. Tifico Fiber Indonesia Tbk. to calculate all surrogate financial ratios.² As a result of that decision, we did not separately value electricity and water in the final margin program because these factors of production are already captured in the surrogate financial ratios.

² See I&D Memo at Comment II.

• Corrected various errors as described in the Analysis Memo and Surrogate Value Memo.³

³ See Memorandum to the File, through Scot T. Fullerton, Program Manager, Office 9, from Steven Hampton, International Trade Analyst, Office 9, regarding Analysis of the Final Results of the Fourth Administrative Review for Certain Polyester Staple Fiber from the People's Republic of China: Zhaoqing Tifo New Fibre Co., Ltd., dated January 4, 2013, (“Analysis Memo”) and Memorandum to the File, through Scot T. Fullerton, Program Manager, Office 9, from Steven Hampton, International Trade Analyst, Office 9, regarding 2010-2011 Antidumping Duty Administrative Review of Certain Polyester Staple fiber from the People's Republic of China: Surrogate Values for the Final Results dated January 4, 2013 (“Surrogate Value Memo”).

Scope of the Order

The merchandise subject to the order is certain polyester staple fiber.⁴ The product is currently classified under the Harmonized Tariff Schedule of the United States (“HTSUS”) item numbers 5503.20.0045 and 5503.20.0065. Although the HTSUS numbers are provided for convenience and customs purposes, the written description of the scope of the order remains dispositive.⁵

⁴ See I&D Memo for a complete description of the Scope of the Order.

⁵ See Notice of Antidumping Duty Order: Certain Polyester Staple Fiber from the People's Republic of China, 72 FR 30545 (June 1, 2007).

Final Determination of No Shipments

On September 22, 2011, the Department received a no-shipment certification from Huvis Sichuan. To confirm the facts behind this assertion, the Department issued a no-shipment inquiry to U.S. Customs Border and Protection (“CBP”) requesting that it provide any information that contradicted the no-shipment claim. The Department received no information from CBP indicating that there were reviewable transactions from Huvis Sichuan during the POR.

On August 6, 2012, the Department received comments on the Preliminary Results from Huvis Sichuan.⁶ Huvis Sichuan noted that the Preliminary Results should have included notice that the Department intends to rescind this review with respect to Huvis Sichuan. The Department inadvertently omitted this information from the Preliminary Results. Therefore, we determine that Huvis Sichuan had no reviewable entries of subject merchandise during the POR. Consistent with our “automatic assessment” clarification, the Department will issue appropriate instructions to CBP based on our final results.⁷

⁶ See Letter from Huvis Sichuan regarding Certain Polyester Staple Fiber from China; 4th Administrative Review, dated August 6, 2012.

⁷ See Non-Market Economy Antidumping Proceedings: Assessment of Antidumping Duties, 76 FR 65694 (October 24, 2011) (“Assessment Practice Refinement”); see also the “Assessment” section of this notice, below.

Final Results of Review

The weighted-average dumping margins for the POR are as follows:

Exporter | Weighted- average dumping margin (percent)
Zhaoqing Tifo New Fiber Co., Ltd | 9.98
PRC-wide Entity (which includes Far Eastern Industries (Shanghai) Ltd., and Far Eastern Polychem Industries) | 44.30

The Department will disclose calculations performed for these final results to the parties within five days of the date of publication of this notice, in accordance with section 351.224(b) of the Department's regulations.

Assessment

Upon issuance of the final results, the Department will determine, and CBP shall assess, antidumping duties on all appropriate entries. The Department intends to issue assessment instructions to CBP 15 days after the date of publication of the final results of review. Pursuant to 19 CFR 351.212(b)(1), we will calculate importer-specific ad valorem duty assessment rates based on the ratio of the total amount of the dumping calculated for the importer's examined sales to the total entered value of those same sales. The Department will instruct CBP to assess antidumping duties on all appropriate entries covered by this review when the importer-specific assessment rate calculated in the final results of this review is above de minimis (i.e., 0.50 percent). Where an importer-specific assessment rate is zero or de minimis, the Department will instruct CBP to liquidate the appropriate entries without regard to antidumping duties in accordance with 19 CFR 351.106(c)(2).

The Department recently announced a refinement to its assessment practice in NME cases. Pursuant to this refinement in practice, for entries that were not reported in the U.S. sales database submitted by companies individually examined during this review, the Department will instruct CBP to liquidate such entries at the NME-wide rate. In addition, if the Department determines that an exporter under review had no shipments of the subject merchandise, any suspended entries that entered under that exporter's case number (i.e. at that exporter's rate) will be liquidated at the NME-wide rate.⁸

⁸ See Assessment Practice Refinement, 76 FR at 65694.

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be the rate established in the final results of review (except, if the rate is zero or de minimis, i.e., less than 0.5 percent, a zero cash deposit rate will be required for that exporter); (2) for previously investigated or reviewed PRC and non-PRC exporters not listed above that have a separate rate, the cash deposit rate will continue to be the exporter-specific rate published for the most recent period; (3) for all PRC exporters of subject merchandise which have not been found to be entitled to a separate rate, the cash deposit rate will be 44.30 percent, the rate for the PRC-wide entity; and (4) for all non-PRC exporters of subject merchandise which have not received their own rate, the cash deposit rate will be the rate applicable to the PRC exporters that supplied that non-PRC exporter. The deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: January 4, 2013.
Paul Piquado,
Assistant Secretary for Import Administration.

Appendix I

Comment 1. Surrogate Value for Steam Coal

Comment 2. Surrogate Financial Ratios

Comment 3. Surrogate Value for Inland Freight

Comment 4. Surrogate Value for Water

Comment 5. Surrogate Value for Brokerage & Handling

Comment 6. Ministerial Error

Comment 7. Huvis Sichuan's No Shipments Certification

Comment 8. Zeroing

[FR Doc. 2013-00463 Filed 1-10-13; 8:45 am]

BILLING CODE 3510-DS-P